DEPARTMENT OF COMMERCE

National Oceanic and Atmospheric Administration

Agency Information Collection Activities; Submission to the Office of Management and Budget (OMB) for Review and Approval; Comment Request; Alaska Region Bering Sea and Aleutian Islands Crab Economic Data Reports

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on July 14, 2025 during a 60-day comment period. This notice allows for an additional 30 days for public comments.

Agency: National Oceanic and Atmospheric Administration, Commerce.

Title: Alaska Region Bering Sea and Aleutian Islands Crab Economic Data Reports.

OMB Control Number: 0648-0518.

Form Number(s): None.

Type of Request: Regular submission [extension of a current information collection].

Number of Respondents: 77.

Average Hours per Response: Annual Catcher Vessel Crab—21 hrs, Annual Catcher/Processor Crab—20 hrs, and Annual Processor Crab—16 hrs.

Total Annual Burden Hours: 1,449 hours.

Needs and Uses: The National Marine Fisheries Service (NMFS), Alaska Regional Office, is requesting renewal of the currently approved information collection for the Economic Data Reporting for the Bering Sea and Aleutian Island Crab Rationalization Program (CR Program). The CR Program is a limited access privilege program managed under the authority of the Magnuson-Stevens Fishery Conservation and Management Act (Magnuson-Stevens Act), the Consolidated Appropriations Act of 2004 (Pub. L. 108-199, Sec. 801), and the Fishery Management Plan for Bering Sea/Aleutian Islands King and Tanner Crab (FMP). The CR Program allocates crab among harvesters, processors, Western Alaska Community Development Quota groups, and coastal communities for nine crab fisheries. The CR Program also includes a comprehensive economic data collection program requiring participants to complete annual Economic Data Reports (EDRs). These EDRs are intended to aid the North Pacific Fishery Management Council (Council) and NOAA's National Marine Fisheries Service (NMFS) to assess the performance of the CR Program and to develop amendments to the FMP or regulations to mitigate any unintended consequences of the CR Program.

NMFS has designated Pacific States Marine Fisheries Commission (PSMFC) as the Data Collection Agent for the CR Program. NMFS and PSMFC administer the crab EDR program under the guidance of the Council. The crab EDR program collects annually reported cost, revenue, ownership, and employment data from harvest and processing sector participants in the CR Program fisheries. This information is necessary to monitor and assess the economic effects of the CR Program and support rigorous economic analysis to promote the goals and objectives of the Magnuson-Stevens Act and the FMP.

Participation in the crab EDR program is mandatory under Federal fisheries regulations at 50 CFR 680.6 for all active vessel and processing sector participants in the CR Program fisheries.

This information collection contains the three EDRs used by participants in the CR Program: Catcher Vessel Crab EDR, Catcher/Processor Crab EDR, and Processor Crab EDR. An EDR is required from any owner or leaseholder of a vessel or processing plant, or a holder of a registered crab receiver permit that harvested, processed, custom processed, or obtained custom processing for CR Program crab in specified Bering Sea and Aleutian Islands crab fisheries during the prior calendar year. The EDRs are submitted annually and are due on or before July 31 of the following year. Additional information on the crab EDR program is available on the PSFMC website at http://www.psmfc.org/alaska_crab/.

Affected Public: Business or other for-profit organizations, Not-for-profit organizations.

Frequency: Annually.

Respondent's Obligation: Mandatory.

Legal Authority: Participation in the crab EDR program is mandatory under Federal fisheries regulations at 50 CFR 680.6 for all active vessel and processing sector participants in the CR Program fisheries.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0518.

Sheleen Dumas,
Departmental PRA Compliance Officer, Office of the Under Secretary for Economic Affairs, Commerce Department.

[FR Doc. 2025-23565 Filed 12-19-25; 8:45 am]

BILLING CODE 3510-22-P